DEPARTMENT OF HEALTH AND HUMAN SERVICES

National Institutes of Health

National Heart, Lung, and Blood Institute; Amended Notice of Meeting

Notice is hereby given of a change in the meeting of the National Heart, Lung, and Blood Institute Special Emphasis Panel, June 28, 2001, 10:00 AM to June 28, 2001, 11:00 AM, 6701 Rockledge Drive, Room 7214, Bethesda, MD, 20892 which was published in the Federal Register on June 13, 2001, FR 66 32365.

The meeting will be held on August 17, 2001 instead of June 28, 2001. The meeting is closed to the public.

Dated: August 9, 2001.
LaVerne Y. Stringfield,
Director, Office of Federal Advisory Committee Policy.

[FR Doc. 01-20594 Filed 8-15-01; 8:45 am]

BILLING CODE 4140-01-M